DEPARTMENT OF TRANSPORTATION

Federal Aviation Administration

14 CFR Part 67

[Docket No. FAA-2009-0773]

Special Issuance of Airman Medical Certificates to Applicants Being Treated With Certain Antidepressant Medications; Re-Opening of Comment Period

AGENCY: Federal Aviation Administration (FAA), DOT.

ACTION: Policy statement; re-opening of comment period.

SUMMARY: This action re-opens the comment period on a policy statement published April 5, 2010, related to special issuance of airmen medical certificates to applicants using certain antidepressant medication. The comment period is re-opened for 30 days and responds to a request from the Air Line Pilots Association, International.

DATES: The comment period for the policy statement published April 5, 2010, closed May 5, 2010, is re-opened until June 25, 2010.

ADDRESSES: You may send comments identified by Docket Number FAA-2009-0773 using any of the following methods:

• Federal eRulemaking Portal: Go to http://www.regulations.gov and follow the online instructions for sending your comments electronically.

• Mail: Send comments to Docket Operations, M-30; U.S. Department of Transportation, 1200 New Jersey Avenue, SE., Room W12-140, West Building Ground Floor, Washington, DC 20590-0001.

• Hand Delivery or Courier: Take comments to Docket Operations in Room W12-140 of the West Building Ground Floor at 1200 New Jersey Avenue, SE., Washington, DC, between 9 a.m. and 5 p.m., Monday through Friday, except Federal holidays.

• Fax: Fax comments to Docket Operations at 202-493-2251.

Privacy: We will post all comments we receive, without change, to http://www.regulations.gov, including any personal information you provide. Using the search function of our docket Web site, anyone can find and read the electronic form of all comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time and follow the online instructions for accessing the docket, or, Docket Operations in Room W12-140 of the West Building Ground Floor at 1200 New Jersey Avenue, SE., Washington, DC, between 9 a.m. and 5 p.m., Monday through Friday, except Federal holidays.

FOR FURTHER INFORMATION CONTACT: Judi Citrenbaum, Federal Air Surgeon's Office, Office of Aerospace Medicine, Federal Aviation Administration, 800 Independence Avenue, SW., Washington, DC 20591; telephone (202) 267-9689; facsimile (202) 267-5200, e-mail Judi.M.Citrenbaum@faa.gov.

SUPPLEMENTARY INFORMATION:

Comments Invited

The FAA invites interested persons to participate in formulating this policy by submitting written comments, data, or views. We also invite comments relating to the economic, environmental, energy, or federalism impacts that might result from adopting it. The most helpful comments explain (with pertinent references to the text of the policy) the reason for any recommended change, and include supporting data. To ensure the docket does not contain duplicate comments, please send only one copy of written comments, or if you are filing comments electronically, please submit your comments only one time.

We will file in the docket all comments we receive. We will consider all comments we receive on or before the closing date for comments. We will consider comments filed after the comment period has closed if it is possible to do so without incurring expense or delay. We may make changes in light of the comments we receive.

Availability of the Policy Statement

You can get an electronic copy using the Internet by:

(1) Searching the Federal eRulemaking Portal at http://www.regulations.gov;

(2) Visiting the Office of Rulemaking's Web page at http://www.faa.gov/avr/arm/index.cfm; or

(3) Accessing the Government Printing Office's Web page at http://www.gpoaccess.gov/fr/index.html.

You can also get a copy by sending a request to the Federal Aviation Administration, Office of Rulemaking, ARM-1, 800 Independence Avenue, SW., Washington, DC 20591, or by calling (202) 267-9680. Make sure to identify the docket number or notice number of this rulemaking.

Background

On April 5, 2010 [64 FR 17047], the Federal Aviation Administration published a policy statement entitled “Special Issuance of Airman Medical Certificates to Applicants Being Treated With Certain Antidepressant Medications.” The FAA established a public docket for this policy (FAA-2009-0773) and opened a 30-day comment period until May 5, 2010. The Air Line Pilots Association, International (ALPA) submitted a comment, dated May 5, 2010, requesting that the FAA extend the comment period.

In its comment ALPA stated this policy change is “an important step in the direction of increasing airline safety.” In ALPA's view, however, “the new protocol has raised a substantial number of questions regarding its application.” ALPA requested an opportunity for a 45-day comment period and specified that this comment period should begin “after the FAA has had the opportunity to answer the specific questions raised about the policy's practical application.”

The FAA has evaluated ALPA's request for additional time to comment and is not opposed to re-opening the comment period. Re-opening the comment period for 45 days appears unwarranted, however, given the few comments received regarding the policy and its practical application during the original 30-day comment period. Therefore, the FAA will re-open the comment period for 30 days.

ALPA has not formally submitted to the public docket its specific questions about the policy's practical application and, as mentioned, few commenters provided input in this regard during the open comment period. To receive appropriate consideration, therefore, the FAA requests specific information regarding these concerns be provided during the next 30 days of the re-opened comment period.

Re-Opening of Comment Period

In accordance with Sec. 11.47(c) of title 14, Code of Federal Regulations, the FAA has reviewed ALPA's comment for extension of the comment period to Docket FAA-2009-0773. Since the comment period has already closed, the FAA will re-open it for a period of 30 days. The petitioner has shown a substantive interest in the policy and has provided good cause to grant re-opening of the comment period. The FAA has determined that re-opening the comment period is consistent with the public interest and that good cause exists for taking this action.

Accordingly, the comment period is re-opened until June 25, 2010.

Issued in Washington, DC, on May 20, 2010.
Frederick E. Tilton,
Federal Air Surgeon.

[FR Doc. 2010-12576 Filed 5-25-10; 8:45 am]

BILLING CODE P